DEPARTMENT OF COMMERCE

International Trade Administration

[A-570-847]

Persulfates From the People's Republic of China: Continuation of Antidumping Duty Order

AGENCY: Enforcement and Compliance, formerly Import Administration, International Trade Administration, Department of Commerce.

SUMMARY: The Department of Commerce (“the Department”) and the International Trade Commission (“ITC”) determined that revocation of the existing antidumping duty (“AD”) order on persulfates from the People's Republic of China (“PRC”) would likely lead to continuation or recurrence of dumping and material injury to an industry in the United States. Therefore, the Department is publishing this notice of continuation of the AD order.

DATES: Effective Date: March 28, 2014.

FOR FURTHER INFORMATION CONTACT: Magd Zalok or Charles Riggle, AD/CVD Operations, Enforcement and Compliance, International Trade Administration, U.S. Department of Commerce, 14th Street and Constitution Avenue NW., Washington, DC 20230; telephone: 202-482-4162 or 202-482-0650, respectively.

SUPPLEMENTARY INFORMATION:

Background

On March 1, 2013, the Department initiated ¹ and the ITC instituted ² a five-year (sunset) review of the AD order on persulfates from the PRC pursuant to sections 751(c) and 752(a) of the Tariff Act of 1930, as amended (“the Act”). As a result of its review, the Department determined that revocation of the AD order would likely lead to continuation or recurrence of dumping and notified the ITC of the magnitude of the margins likely to prevail should the order be revoked.³ On March 14, 2014, pursuant to section 751(c) of the Act, the ITC determined that revocation of the AD order on persulfates from the PRC would likely lead to continuation or recurrence of material injury to an industry in the United States within a reasonably foreseeable time.⁴

¹ See Initiation of Five-Year (“Sunset”) Review, 78 FR 13862 (March 1, 2013).

² See Persulfates From China; Institution of a Five-Year Review Concerning the Antidumping Duty Order on Persulfates From China, 78 FR 13891 (March 1, 2013).

³ See Persulfates From the People's Republic of China: Final Results of Expedited Third Sunset Review of Antidumping Duty Order, 78 FR 40695 (July 8, 2013) (“Persulfates Final”).

⁴ See USITC Publication of Investigation No. 731-TA-749 (March 2014), 79 FR 14536, March 14, 2014.

Scope of the Order

The products covered by this order are persulfates, including ammonium, potassium, and sodium persulfates. The chemical formula for these persulfates are, respectively, (NH4)2S2O8, K2S2O8, and Na2S2O8. Potassium persulfates are currently classifiable under subheading 2833.40.10 of the Harmonized Tariff Schedule of the United States (“HTSUS”). Sodium persulfates are classifiable under HTSUS subheading 2833.40.20. Ammonium and other persulfates are classifiable under HTSUS subheadings 2833.40.50 and 2833.40.60. Although the HTSUS subheadings are provided for convenience and customs purposes, the written description of the scope of this order is dispositive.

Continuation of Order

As a result of the determinations by the Department and the ITC that revocation of the AD order on persulfates from the PRC would likely lead to continuation or recurrence of dumping and material injury to an industry in the United States, pursuant to sections 751(c) 751(d)(2) of the Act, the Department hereby orders the continuation of the AD order on persulfates from the PRC. U.S. Customs and Border Protection will continue to collect AD cash deposits at the rates in effect at the time of entry for all imports of subject merchandise.

The effective date of continuation of this AD order will be the date of publication in the Federal Register of this notice of continuation. Pursuant to section 751(c)(2) of the Act, the Department intends to initiate the next five-year review of this order not later than 30 days prior to the fifth anniversary of the effective date of continuation.

This sunset review and this notice are in accordance with section 751(c) of the Act and published pursuant to section 777(i)(1) of the Act and 19 CFR 351.218(f)(4).

Dated: March 20, 2014.
Paul Piquado,
Assistant Secretary for Enforcement and Compliance.

[FR Doc. 2014-06713 Filed 3-27-14; 8:45 am]

BILLING CODE 3510-DS-P